DEPARTMENT OF HOMELAND SECURITY

Federal Emergency Management Agency

44 CFR Part 67

[Docket ID FEMA-2010-0003; Internal Agency Docket No. FEMA-B-1127]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 13, 2010.

ADDRESSES: The corresponding preliminary Flood Insurance Rate Map (FIRM) for the proposed BFEs for each community is available for inspection at the community's map repository. The respective addresses are listed in the table below.

You may submit comments, identified by Docket No. FEMA-B-1127, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Winneshiek County, Iowa, and Incorporated Areas
Upper Iowa River | Approximately 1.0 mile downstream of Clay Hill Road | None | +836 | City of Decorah, Unincorporated Areas of Winnieshiek County.
| Approximately 0.73 mile upstream of U.S. Route 52 | None | +880
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Decorah
Maps are available for inspection at 400 Claiborne Drive, Decorah, IA 52101.
Unincorporated Areas of Winnieshiek County
Maps are available for inspection at 201 West Main Street, Decorah, IA 52101.
Saline County, Kansas, and Incorporated Areas
Critical Drainage Area No. 2 | Just upstream of East Prescott Road | +1224 | +1225 | City of Salina.
| Just upstream of Cloud Street | +1226 | +1229
Magnolia Road Ditch | Approximately 0.5 mile downstream of Ninth Street | +1240 | +1241 | City of Salina, Unincorporated Areas of Saline County.
| Approximately 625 feet upstream of Edwards Street | +1240 | +1241
The Slough | Just upstream of Prescott Avenue | +1227 | +1226 | City of Salina.
| Approximately 80 feet upstream of Cloud Street | +1232 | +1231
Tributary to East Dry Creek Tributary | Approximately 0.7 mile downstream of Indiana Avenue | None | +1234 | City of Salina, Unincorporated Areas of Saline County.
| Approximately 1,512 feet upstream of Brookwood Lane | None | +1261
Unnamed Drainage Area (a) | Just downstream of Otto Avenue | +1236 | +1239 | City of Salina.
| Just downstream of Belmont Avenue | +1240 | +1243
Unnamed Drainage Area (b) | Just downstream of Red Fox Lane | +1230 | +1225 | City of Salina.
| Just upstream of Quincy Street | +1240 | +1238
Unnamed Drainage Area (c) | Just upstream of Magnolia Road | +1234 | +1227 | City of Salina.
| Just downstream of Missouri Pacific Railroad | +1243 | +1242
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Salina
Maps are available for inspection at City Hall, 300 West Ash Street, Salina, KS 67402.
Unincorporated Areas of Saline County
Maps are available for inspection at the Saline County Courthouse, 300 West Ash Street, Salina, KS 67402.
Elko County, Nevada, and Incorporated Areas
I-80 Runoff | From approximately 0.60 mile downstream of the I-80 crossing of U.S. Alt 93 to approximately 0.38 mile downstream of the I-80 crossing of U.S. Alt 93 | None | #2 | City of West Wendover, Unincorporated Areas of Elko County.
| From approximately 0.97 mile upstream of the I-80 crossing of U.S. Alt 93 to approximately 1.42 mile upstream of the I-80 crossing of U.S. Alt 93 | None | #2
| Approximately 500 feet north of Wendover Boulevard, approximately 0.73 mile east of U.S. Alt 93 | None | +4355
| Approximately 80 feet north of I-80, approximately 400 feet east of Maple Street | None | +4362
| Approximately 260 feet downstream of the U.S. Alt 93 crossing of I-80 along U.S. Alt 93 | None | +4380
| Approximately 0.74 mile upstream of the I-80 crossing of U.S. Alt 93 | None | +4530
North Channel | From approximately 250 feet upstream of U.S. Alt 93 to approximately 0.51 mile upstream of U.S. Alt 93 | None | #1 | Unincorporated Areas of Elko County.
| From approximately 0.95 mile upstream of U.S. Alt 93 to approximately 1.25 mile upstream of U.S. Alt 93 | None | #1
| From approximately 0.51 mile upstream of U.S. Alt 93 to approximately 300 feet downstream of Western Pacific Railroad | None | #2
| Approximately 1.60 mile downstream of Landfill Road along U.S. Alt 93 | None | +4280
| Approximately 1,900 feet downstream of Landfill Road along U.S. Alt 93 | None | +4292
| Approximately 300 feet downstream of Western Pacific Railroad | None | +4452
| Approximately 1,700 feet downstream of I-80 | None | +4745
North Channel Tributary | At the culvert at Western Pacific Railroad to approximately 0.38 mile upstream of the culvert at Western Pacific Railroad | None | #1 | Unincorporated Areas of Elko County.
| Approximately 250 feet upstream of the confluence with North Channel | None | +4528
| Approximately 100 feet upstream of Western Pacific Railroad | None | +4678
North Channel Tributary 2 | Approximately 200 feet upstream of the confluence with North Channel | None | +4560 | Unincorporated Areas of Elko County.
| Approximately 0.44 mile upstream of the confluence with North Channel | None | +4595
North Channel Tributary 3 | From approximately 0.85 mile downstream of I-80 to approximately 100 feet downstream of I-80 | None | #1 | Unincorporated Areas of Elko County.
| Just upstream of I-80 eastbound | None | +4802
| Approximately 100 feet northeast of the I-80 exit to Wendover Boulevard | None | +4828
North East Runoff | Approximately 1 mile north of the intersection of Maple Street and Odle Drive to approximately 1.10 mile northeast of the intersection of Maple Street and Odle Drive | None | +4871 | Unincorporated Areas of Elko County.
Ponding in Casino Parking Lot | Approximately 300 feet south of Wendover Boulevard, just east of Camper Drive, to approximately 600 feet east of Camper Drive | None | +4377 | City of West Wendover.
Ponding in Gas Station Parking Lot | Approximately 0.40 mile west of U.S. Alt 95, approximately 350 feet north of Wendover Boulevard, to approximately 675 feet north of Wendover Boulevard | None | +4420 | City of West Wendover.
Ponding in Recreational Center Softball Field | Approximately 1,250 feet east of Camper Drive, approximately 910 feet south of Wendover Boulevard, to approximately 550 feet south of Wendover Boulevard | None | #1 | City of West Wendover, Unincorporated Areas of Elko County.
Red Garter Street and Wendover Boulevard Runoff | From approximately 500 feet downstream of the intersection of Wendover Boulevard and Red Garter Street to approximately 500 feet north of the intersection of Wendover Boulevard and Red Garter Street | None | #3 | City of West Wendover, Unincorporated Areas of Elko County.
South West Channel | Approximately 1.26 mile downstream of Western Pacific Railroad | None | +4408 | Unincorporated Areas of Elko County.
| Approximately 0.88 mile upstream of Western Pacific Railroad | None | +4602
South West Channel Tributary | From approximately 550 feet east of Western Pacific Railroad to approximately 1.02 mile upstream of Western Pacific Railroad | None | #1 | Unincorporated Areas of Elko County.
| Approximately 1,730 feet downstream of Western Pacific Railroad | None | +4482
| Approximately 0.62 mile upstream of Western Pacific Railroad along Western Pacific Railroad | None | +4550
Wendover Air Force Auxiliary Field Basins | From approximately 0.95 mile south of the intersection of U.S. Alt 93 and Airport Way to approximately 0.78 mile south of the intersection of U.S. Alt 93 and Airport Way | None | #1 | Unincorporated Areas of Elko County.
| Approximately 0.83 mile south of the intersection of U.S. Alt 93 and Airport Way | None | +4228
| Approximately 0.38 mile south of the intersection of U.S. Alt 93 and Airport Way | None | +4250
Wendover Air Force Auxiliary Field Drainage | From approximately 2.00 miles south of the intersection of U.S. Alt 93 and Airport Way to approximately south of the intersection of U.S. Alt 93 and Airport Way | None | #1 | Unincorporated Areas of Elko County.
| From approximately 2.40 miles south of Scobie Road to approximately 2.00 miles south of Scobie Road, and from approximately 1.88 mile east of U.S. Alt 93 to approximately 2.38 miles east of U.S. Alt 93 | None | #2
| Approximately 0.39 mile downstream of the intersection of Airport Way and U.S. Alt 93 along Airport Way | None | +4260
| Approximately 500 feet upstream of Airport Way | None | +4268
Wendover Boulevard Runoff | From approximately 0.51 mile east of the intersection of U.S. Alt 93 and Wendover Boulevard along Wendover Boulevard to approximately 600 feet east of the intersection of U.S. Alt 93 and Wendover Boulevard | None | #1 | City of West Wendover.
| Approximately 0.51 mile east of the intersection of U.S. Alt 93 and Wendover Boulevard north and south of Wendover Boulevard | None | +4345
Wendover Boulevard to Airport Way Runoff | From Kelcee Street to just south of Western Pacific Railroad along Airport Way | None | #2 | City of West Wendover.
| From approximately 0.40 mile east of the intersection of U.S. Alt 93 and Western Pacific Railroad to approximately 1,109 feet east of the intersection of U.S. Alt 93 and Western Pacific Railroad | None | #2
| Between Wendover Boulevard, U.S. Alt 93, and Scobie Road, approximately 470 feet south of Wendover Boulevard | None | +4286
West Channel | From approximately 0.40 mile upstream of the confluence with South West Channel to approximately 0.72 mile upstream of the confluence with South West Channel | None | #1 | Unincorporated Areas of Elko County.
| Approximately 100 feet upstream of the confluence with South West Channel | None | +4453
| Approximately 0.39 mile upstream of the confluence with South West Channel | None | +4498
| Approximately 0.72 mile upstream of the confluence with South West Channel | None | +4535
| Approximately 3.25 miles upstream of the confluence with South West Channel | None | +4696
Western Pacific Railroad and U.S. Route 93 Runoff | Approximately 1,050 feet downstream of the U.S. Alt 93 crossing of Western Pacific Railroad | None | +4298 | City of West Wendover, Unincorporated Areas of Elko County.
| Approximately 0.49 mile upstream of the U.S. Alt 93 crossing of Western Pacific Railroad | None | +4326
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of West Wendover
Maps are available for inspection at 1111 North Gene L. Jones Way, West Wendover, NV 89883.
Unincorporated Areas of Elko County
Maps are available for inspection at 155 9th Street, Elko, NV 89801.
Luzerne County, Pennsylvania (All Jurisdictions)
Bear Creek | Approximately 0.4 mile downstream of Bear Creek Boulevard | None | +1502 | Borough of Bear Creek Village.
| Approximately 940 feet upstream of the confluence with Tenmile Run | None | +1530
Big Wapwallopen Creek | Approximately 0.41 mile upstream of State Route 239 | None | +522 | Township of Hollenback.
| Approximately 0.45 mile upstream of State Route 239 | None | +524
Big Wapwallopen Creek | Approximately 385 feet downstream of Hobbie Wapwallopen Road | None | +845 | Township of Dorrance, Township of Fairview, Township of Hollenback, Township of Rice, Township of Wright.
| Approximately 535 feet upstream of Dale Drive | None | +1526
Black Creek | Approximately 910 feet upstream of Susquehanna Boulevard | None | +1461 | Borough of West Hazleton.
| Approximately 0.56 mile upstream of Susquehanna Boulevard | None | +1470
Bow Creek | Approximately 1,185 feet upstream of the confluence with Bow Creek Tributary A | None | +1346 | Township of Fairview.
| Approximately 0.38 mile downstream of railroad | None | +1546
Bow Creek Tributary A | Approximately 520 feet downstream of Wilkes Lane | None | +1341 | Township of Fairview.
| Approximately 1,865 feet upstream of Shady Tree Drive | None | +1491
Browns Creek | Approximately 100 feet downstream of Private Road | +903 | +901 | Township of Jackson.
| Approximately 1,390 feet upstream of Chase Road | +993 | +988
Harveys Creek | Approximately 590 feet downstream of Shady Lane | None | +1098 | Town of Lehman.
| Approximately 410 feet downstream of Shady Lane | None | +1099
Huntington Creek | Approximately 1,320 feet downstream of Henrico Road | None | +894 | Township of Ross.
| Approximately 1,290 feet downstream of Henrico Road | None | +894
Lattimer Creek | Approximately 900 feet downstream of West 28th Street | None | +1491 | Township of Hazle.
| Approximately 745 feet upstream of Hillside Drive | None | +1585
Lidy Creek | Approximately 265 feet downstream of the Pennsylvania Turnpike | None | +833 | Township of Pittston.
| Approximately 115 feet downstream of the Pennsylvania Turnpike | None | +837
Little Nescopeck Creek No. 2 | Approximately 0.77 mile downstream of Sunset Drive | None | +942 | Township of Butler.
| Approximately 0.76 mile downstream of Sunset Drive | None | +942
Mill Creek No. 2 | Approximately 650 feet downstream of I-81 | None | +783 | Township of Pittston.
| Approximately 500 feet downstream of I-81 | None | +799
Pikes Creek | Approximately 815 feet downstream of State Route 29 | None | +1127 | Town of Lehman.
| Approximately 700 feet downstream of State Route 29 | None | +1127
| Approximately 965 feet upstream of the confluence with Fades Creek | None | +1141
| Approximately 1,005 feet downstream of State Route 118 | None | +1143
Pine Creek No. 1 | Approximately 540 feet downstream of White Haven Road | None | +1355 | Borough of Penn Lake Park.
| Approximately 390 feet downstream of White Haven Road | None | +1359
Pine Creek No. 2 | Approximately 1.1 mile downstream of Town Hill Road | None | +731 | Township of Huntington.
| Approximately 0.91 mile downstream of Town Hill Road | None | +736
Pine Creek No. 2 | Approximately 885 feet downstream of Volanski Road | None | +842 | Township of Fairmount.
| Approximately 810 feet downstream of Volanski Road | None | +842
South Branch Newport Creek | Approximately 450 feet upstream of the confluence with Newport Creek | None | +560 | Township of Newport.
| Approximately 670 feet upstream of the confluence with Newport Creek | None | +560
Spring Run | Approximately 110 feet upstream of railroad | None | +576 | Borough of Ashley.
| Approximately 300 feet upstream of railroad | None | +578
Susquehanna River | Approximately 1.95 mile downstream of Salem Creek | None | +500 | Borough of Duryea, Borough of Edwardsville, Borough of Exeter, Borough of Forty Fort, Borough of Kingston, Borough of Larksville, Borough of Nescopeck, Borough of Plymouth, Borough of Shickshinny, Borough of West Pittston, Borough of Wyoming, City of Nanticoke, City of Pittston, City of Wilkes-Barre, Township of Conyngham, Township of Exeter, Township of Hanover, Township of Hunlock, Township of Jenkins, Township of Nescopeck, Township of Newport, Township of Plains, Township of Plymouth, Township of Salem, Township of Union.
| Approximately 2.49 mile upstream of the confluence with Sutton Creek | None | +579
Sutton Creek | Approximately 300 feet upstream of Miller Road | None | +845 | Township of Exeter.
| Approximately 405 feet upstream of Miller Road | None | +846
Toby Creek | Approximately 700 feet downstream of Cross Valley Expressway | None | +644 | Borough of Courtdale, Borough of Luzerne.
| Approximately 0.49 mile upstream of Cross Valley Expressway | None | +759
Toby Creek | Approximately 205 feet upstream of Woodlawn Avenue | None | +1125 | Township of Dallas.
| Approximately 240 feet upstream of Woodlawn Avenue | None | +1125
Watering Run | At the confluence with Big Wapwallopen Creek, approximately 440 feet upstream of Morio Drive | None | +1071 | Township of Wright.
| Approximately 0.58 mile upstream of South Mountain Boulevard | None | +1422
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Ashley
Maps are available for inspection at the Borough Building, 10 North Main Street, Ashley, PA 18706.
Borough of Bear Creek Village
Maps are available for inspection at the Bear Creek Village Borough Building, 867 Railroad Lane, Bear Creek, PA 18602.
Borough of Courtdale
Maps are available for inspection at the Borough Building, 5 Blackman Street, Courtdale, PA 18704.
Borough of Duryea
Maps are available for inspection at the Borough Building, 315 Main Street, Duryea, PA 18642.
Borough of Edwardsville
Maps are available for inspection at the Edwardsville Borough Building, 470 Main Street, Kingston, PA 18704.
Borough of Exeter
Maps are available for inspection at the Exeter Borough Building, 1101 Wyoming Avenue, Exeter, PA 18643.
Borough of Forty Fort
Maps are available for inspection at the Borough Building, 1271 Wyoming Avenue, Forty Fort, PA 18704.
Borough of Kingston
Maps are available for inspection at the Borough Building, 500 Wyoming Avenue, Kingston, PA 18704.
Borough of Larksville
Maps are available for inspection at the Borough Building, 211 East State Street, Larksville, PA 18704.
Borough of Luzerne
Maps are available for inspection at the Borough Building, 144 Academy Street, Luzerne, PA 18709.
Borough of Nescopeck
Maps are available for inspection at the Nescopeck Borough Building, 501 Raber Avenue, Nescopeck, PA 18635.
Borough of Penn Lake Park
Maps are available for inspection at the Penn Lake Park Borough Building, 51 Woodland Drive, White Haven, PA 18661.
Borough of Plymouth
Maps are available for inspection at the Plymouth Borough Building, 162 West Shawnee Avenue, Plymouth, PA 18651.
Borough of Shickshinny
Maps are available for inspection at the Borough Building, 35 West Union Street, Shickshinny, PA 18655.
Borough of West Hazleton
Maps are available for inspection at the Borough Building, 12 South 4th Street, West Hazleton, PA 18202.
Borough of West Pittston
Maps are available for inspection at West Pittston Borough Building, 555 Exeter Avenue, West Pittston, PA 18644.
Borough of Wyoming
Maps are available for inspection at the Borough Building, 277 Wyoming Avenue, Wyoming, PA 18644.
City of Nanticoke
Maps are available for inspection at City Hall, 15 East Ridge Street, Nanticoke, PA 18634.
City of Pittston
Maps are available for inspection at City Hall, 35 Broad Street, Pittston, PA 18640.
City of Wilkes-Barre
Maps are available for inspection at City Hall, 40 East Market Street, Wilkes-Barre, PA 18711.
Town of Lehman
Maps are available for inspection at the Lehman Town Hall, 1183 Old Route 115, Dallas, PA 18612.
Township of Butler
Maps are available for inspection at the Butler Township Building, 415 West Butler Drive, Drums, PA 18222.
Township of Conyngham
Maps are available for inspection at the Conyngham Township Building, 10 Pond Hill Road, Mocanaqua, PA 18655.
Township of Dallas
Maps are available for inspection at the Township Building, 601 Tunkhannock Highway, Dallas, PA 18612.
Township of Dorrance
Maps are available for inspection at the Dorrance Township Building, 7844 Blue Ridge Trail, Mountain Top, PA 18707.
Township of Exeter
Maps are available for inspection at the Exeter Township Building, Rural Route 1, Box 191, West Pittston, PA 18643.
Township of Fairmount
Maps are available for inspection at the Fairmount Township Building, 867 Old Tioga Turnpike, Benton, PA 17814.
Township of Fairview
Maps are available for inspection at the Fairview Township Building, 65 Shady Tree Drive, Mountain Top, PA 18707.
Township of Hanover
Maps are available for inspection at the Township Building, 1267 Sans Souci Parkway, Hanover, PA 18706.
Township of Hazle
Maps are available for inspection at the Hazle Township Building, Rear 101 West 27, Harleigh, PA 18225.
Township of Hollenback
Maps are available for inspection at the Hollenback Township Building, 660 East County Road, Wapwallopen, PA 18660.
Township of Hunlock
Maps are available for inspection at the Township Building, 33 Village Drive, Hunlock Creek, PA 18621.
Township of Huntington
Maps are available for inspection at the Huntington Township Building, 815 Municipal Road, Shickshinny, PA 18655.
Township of Jackson
Maps are available for inspection at the Jackson Township Building, 2211 Huntsville Road, Shavertown, PA 18708.
Township of Jenkins
Maps are available for inspection at the Township Building, 46½; Main Street-Inkerman Section, Jenkins, PA 18640.
Township of Nescopeck
Maps are available for inspection at the Nescopeck Township Building, 429 Berwick-Hazleton Highway, Nescopeck, PA 18635.
Township of Newport
Maps are available for inspection at the Newport Township Building, 1002 Center Street, Wanamie, PA 18634.
Township of Pittston
Maps are available for inspection at the Township Building, 421 Broad Street, Pittston, PA 18640.
Township of Plains
Maps are available for inspection at the Township Building, 126 North Main Street, Plains, PA 18705.
Township of Plymouth
Maps are available for inspection at the Plymouth Township Building, 925 West Main Street, Plymouth, PA 18651.
Township of Rice
Maps are available for inspection at the Rice Township Building, 3000 Church Road, Mountain Top, PA 18707.
Township of Ross
Maps are available for inspection at the Ross Township Building, 72 Broadway Road, Sweet Valley, PA 18656.
Township of Salem
Maps are available for inspection at the Salem Township Building, 38 Bomboy Lane, Berwick, PA 18603.
Township of Union
Maps are available for inspection at the Union Township Building, 21 Municipal Road, Shickshinny, PA 18655.
Township of Wright
Maps are available for inspection at the Wright Township Building, 321 South Mountain Boulevard, Mountain Top, PA 18707.
Mercer County, Pennsylvania (All Jurisdictions)
Baker Run | Approximately 55 feet upstream of Highland Road | None | +1114 | City of Sharon.
| Approximately 30 feet downstream of Richmond Drive | None | +1117
Little Shenango River | Approximately 0.94 mile downstream of the confluence with Little Shenango River Tributary 1 | None | +968 | Township of Sugar Grove.
| Approximately 0.9 mile downstream of the confluence with Little Shenango River Tributary 1 | None | +968
Munnel Run | Approximately 0.31 mile upstream of Home Street | None | +1125 | Township of Findley.
| Approximately 0.21 mile downstream of Franklin Street | None | +1131
Neshannock Creek | Approximately 425 feet downstream of the intersection of Plantation Drive and Cypress Lane | None | +1093 | Township of Findley.
| Approximately 0.3 mile upstream of the intersection of Schaffer Road and Grove City Road | None | +1095
Otter Creek | Approximately 0.28 mile upstream of the confluence with Munnell Run | None | +1099 | Township of Findley.
| Approximately 0.3 mile upstream of the confluence with Munnell Run | None | +1099
Sawmill Run | Approximately 0.35 mile upstream of the confluence with Sawmill Run Tributary 1 | None | +1164 | Township of Sandy Lake.
| Approximately 0.46 mile upstream of the confluence with Sawmill Run Tributary 1 | None | +1165
Sawmill Run | Approximately 0.23 mile downstream of Franklin Street (just below Maple Street) | None | +1167 | Borough of Stoneboro.
| Approximately 305 feet upstream of Franklin Street | None | +1167
Shenango River | Approximately 690 feet upstream of the confluence with Big Run No. 1 | None | +930 | Borough of Greenville, Township of West Salem.
| Approximately 295 feet upstream of the intersection of Clinton Street and Canal Street | None | +943
Shenango River | Approximately 275 feet upstream of the confluence with Shenango River Tributary 3 | None | +835 | Municipality of Hermitage.
| Approximately 490 feet downstream of the confluence with Little Yankee Run | None | +845
| Just downstream of Clark Street | None | +856
| Approximately 820 feet upstream of the confluence with Big Run No. 2 | None | +859
Shenango River | Approximately 0.34 mile upstream of the confluence with the Little Shenango River | None | +949 | Township of West Salem.
| Approximately 200 feet downstream of Porter Road | None | +951
Wolf Creek | Approximately 0.21 mile upstream of the confluence with Barmore Run | None | +1220 | Township of Pine.
| Approximately 0.34 mile downstream of the intersection of Craig Street and Garden Avenue | None | +1226
| Approximately 0.2 mile downstream of the intersection of Craig Street and Garden Avenue | None | +1226
| Approximately 0.38 mile downstream of State Route 58 (Main Street) | None | +1226
| Approximately 0.22 mile downstream of the confluence with Black Run | None | +1245
| Approximately 0.21 mile downstream of the confluence with Black Run | None | +1245
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Greenville
Maps are available for inspection at 125 Main Street, Greenville, PA 16125.
Borough of Stoneboro
Maps are available for inspection at 59 Lake Street, Stoneboro, PA 16153.
City of Sharon
Maps are available for inspection at the Municipal Building, 155 West Connelly Boulevard, Sharon, PA 16146.
Municipality of Hermitage
Maps are available for inspection at City Hall, 800 North Hermitage Road, Hermitage, PA 16148.
Township of Findley
Maps are available for inspection at the Findley Township Building, 369 McClelland Road, Mercer, PA 16137.
Township of Pine
Maps are available for inspection at the Pine Township Building, 545 Barkeyville Road, Grove City, PA 16127.
Township of Sandy Lake
Maps are available for inspection at the Township Building, 3271 South Main Street, Sandy Lake, PA 16145.
Township of Sugar Grove
Maps are available for inspection at 359 Groover Road, Greenville, PA 16125.
Township of West Salem
Maps are available for inspection at the West Salem Township Building, 610 Vernan Road, Greenville, PA 16125.
Venango County, Pennsylvania (All Jurisdictions)
Allegheny River | Approximately 860 feet upstream of I-80 | None | +880 | Borough of Emlenton.
| Approximately 0.3 mile downstream of Allegheny River Tributary 2 | None | +891
Allegheny River | Approximately 0.8 mile downstream of Kennerdell Road | None | +931 | Township of Clinton.
| At the confluence with Sandy Creek | None | +949
East Sandy Creek | Approximately 460 feet upstream of the confluence with the Allegheny River | None | +961 | Township of Rockland.
| Approximately 1,000 feet upstream of the confluence with the Allegheny River | None | +961
Sugar Creek | Approximately 0.79 mile downstream Bradleytown Road | None | +1201 | Township of Plum.
| Approximately 0.78 mile downstream Bradleytown Road | None | +1201
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Emlenton
Maps are available for inspection at the Borough Building, 511 Hill Street, Emlenton, PA 16373.
Township of Clinton
Maps are available for inspection at the Clinton Township Building, 123 Donaldson Road, Kennerdell, PA 16374.
Township of Plum
Maps are available for inspection at the Plum Township Building, 2360 Sunville Road, Cooperstown, PA 16317.
Township of Rockland
Maps are available for inspection at the Rockland Township Building, 1115 Rockland Township Road, Kennerdell, PA 16374.
Chester County, South Carolina, and Incorporated Areas
Broad River (Downstream) | Approximately 1.8 mile downstream of State Highway 72 | None | +314 | Unincorporated Areas of Chester County.
| Approximately 2.0 miles upstream of State Highway 72 | None | +327
Broad River (Upstream) | Approximately 1.6 mile downstream of State Highway 49 | None | +363 | Unincorporated Areas of Chester County.
| Approximately 2.2 miles upstream of State Highway 49 | None | +417
Dry Fork Creek | Approximately 68 feet upstream of the confluence with the Sandy River | None | +397 | City of Chester, Unincorporated Areas of Chester County.
| Approximately 1.3 mile upstream of U.S. Route 321 | None | +545
Fishing Creek | Approximately 1,219 feet downstream of U.S. Route 21 | None | +355 | Town of Great Falls, Unincorporated Areas of Chester County.
| Approximately 757 feet upstream of Humpback Bridge Road | None | +484
Rocky Creek | Approximately 273 feet downstream of Brooklyn Road | None | +297 | Town of Great Falls, Unincorporated Areas of Chester County.
| Approximately 0.5 mile upstream of the confluence with Turkey Creek | None | +317
Tanyard Branch | At the confluence with Dry Fork Creek | None | +412 | Unincorporated Areas of Chester County.
| Approximately 0.7 mile upstream of Hawthorne Road | +437 | +436
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Chester
Maps are available for inspection at City Hall, 100 West End Street, Chester, SC 29706.
Town of Great Falls
Maps are available for inspection at the Town Hall, 810 Dearborn Street, Great Falls, SC 29055.
Unincorporated Areas of Chester County
Maps are available for inspection at the Chester County Government Complex, 1476 J.A. Cochran Bypass, Suite 63, Chester, SC 29706.
Chesterfield County, South Carolina, and Incorporated Areas
Bear Creek | At the confluence with Thompson Creek | None | +114 | Unincorporated Areas of Chesterfield County.
| Approximately 0.9 mile upstream of Evans Mill Road | None | +130
Beaver Creek | At the confluence with Thompson Creek | None | +105 | Unincorporated Areas of Chesterfield County.
| Approximately 1,960 feet downstream of Teals Mill Road | None | +116
Great Pee Dee River | Approximately 200 feet downstream of the confluence with Thompson Creek | None | +93 | Town of Cheraw, Unincorporated Areas of Chesterfield County.
| At the State of South Carolina/State of North Carolina boundary | None | +110
Huckleberry Branch | At the confluence with the Great Pee Dee River | +106 | +98 | Town of Cheraw, Unincorporated Areas of Chesterfield County.
| Approximately 474 feet upstream of Chesterfield Highway | None | +189
Huckleberry Branch Tributary | At the confluence with Huckleberry Branch | None | +133 | Town of Cheraw, Unincorporated Areas of Chesterfield County.
| Approximately 831 feet upstream of Chesterfield Highway | None | +175
Indian Creek | At the confluence with Thompson Creek | None | +122 | Town of Chesterfield, Unincorporated Areas of Chesterfield County.
| Approximately 1,743 feet upstream of Avondale Road | None | +176
Juniper Creek | At the confluence with Thompson Creek | None | +93 | Town of Patrick, Unincorporated Areas of Chesterfield County.
| Approximately 2.3 miles upstream of U.S. Route 1 | None | +212
Juniper Creek Tributary 1 | At the confluence with Juniper Creek | None | +117 | Unincorporated Areas of Chesterfield County.
| Approximately 1,177 feet upstream of McBride Road | None | +168
Juniper Creek Tributary 2 | At the confluence with Juniper Creek | None | +128 | Unincorporated Areas of Chesterfield County.
| Approximately 0.6 mile upstream of RD TT 18 | None | +198
Little Juniper Creek | At the confluence with Juniper Creek | None | +131 | Unincorporated Areas of Chesterfield County.
| Approximately 1.3 mile upstream of U.S. Route 1 | None | +160
Mill Creek | At the confluence with Juniper Creek | None | +158 | Unincorporated Areas of Chesterfield County.
| Approximately 0.9 mile upstream of Wilkes Pond Road | None | +189
Thompson Creek | At the confluence with the Great Pee Dee River | None | +93 | Town of Chesterfield, Unincorporated Areas of Chesterfield County.
| Approximately 1.4 mile upstream of North Page Street | None | +174
Wilson Branch | At the confluence with Huckleberry Branch | +106 | +99 | Town of Cheraw.
| Approximately 1,767 feet upstream of Jersey Street | None | +157
Wilson Branch Tributary | At the confluence with Wilson Branch | None | +113 | Town of Cheraw, Unincorporated Areas of Chesterfield County.
| Approximately 1,686 feet upstream of Jersey Street | None | +152
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Town of Cheraw
Maps are available for inspection at the Town Hall, 200 Market Street, Cheraw, SC 29520.
Town of Chesterfield
Maps are available for inspection at the Town Hall, 112 East Main Street, Chesterfield, SC 29709.
Town of Patrick
Maps are available for inspection at the Town Hall, 129 Turnage Street, Patrick, SC 29584.
Unincorporated Areas of Chesterfield County
Maps are available for inspection at the County Courthouse, 200 West Main Street, Chesterfield, SC 29709.
Newberry County, South Carolina, and Incorporated Areas
Duncans Creek | Approximately 1,245 feet upstream of the confluence with the Enoree River | None | +325 | Town of Whitmire, Unincorporated Areas of Newberry County.
| Approximately 1,323 feet upstream of the confluence with South Fork Duncan Creek | None | +360
Lake Greenwood | Entire shoreline | None | +442 | Unincorporated Areas of Newberry County.
Lake Murray | Approximately 0.9 mile upstream of Wheeland Hool Road | None | +362 | Unincorporated Areas of Newberry County.
| Approximately 30 feet upstream of State Highway 391 | None | +362
Mud Creek | Approximately 0.4 mile downstream of New Hope Road | None | +279 | Unincorporated Areas of Newberry County.
| Approximately 1.4 mile upstream of U.S. Route 176 | None | +371
Scotts Creek | At Glenn Road | None | +475 | City of Newberry, Unincorporated Areas of Newberry County.
| Approximately 288 feet upstream of Pender Ridge Road | None | +509
Timothy Creek | Approximately 251 feet downstream of Cannon Swamp Road | None | +386 | Unincorporated Areas of Newberry County.
| Approximately 1.6 mile upstream of Clara Brown Road | None | +498
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Newberry
Maps are available for inspection at City Hall, 1330 College Street, Newberry, SC 29108.
Town of Whitmire
Maps are available for inspection at the Town Hall, 210 Main Street, Whitmire, SC 29178.
Unincorporated Areas of Newberry County
Maps are available for inspection at the County Courthouse, 1223 College Street, Newberry, SC 29108.

(Catalog of Federal Domestic Assistance No. 97.022, “Flood Insurance.”)

Dated: September 1, 2010.
Sandra K. Knight,
Deputy Federal Insurance and Mitigation Administrator, Mitigation, Department of Homeland Security, Federal Emergency Management Agency.

[FR Doc. 2010-22763 Filed 9-10-10; 8:45 am]

BILLING CODE 9110-12-P